DEPARTMENT OF STATE

[Public Notice 4971]

Shipping Coordinating Committee; Notice of Meeting

The Shipping Coordinating Committee (SHC) will conduct an open meeting at 9:30 a.m. on Tuesday, March 29, 2005, in Room 6319 of the United States Coast Guard Headquarters Building, 2100 2nd Street, SW., Washington, DC, 20593-0001. The primary purpose of the meeting is to prepare for the 9th session of the Sub-Committee on Bulk Liquids and Gases (BLG) to be held at the International Maritime Organization (IMO) Headquarters in London, England from April 4th to April 8th, 2005.

The primary matters to be considered include:

—Evaluation of safety and pollution hazards of chemicals and preparation of consequential amendments;

—Requirements for protection of personnel involved in the transport of cargoes containing toxic substances in all types of tankers;

—Revision of the fire protection requirements of the International Bulk Chemical, International Gas Carrier, Bulk Chemical and Gas Carrier Codes;

—Consideration of IACS unified interpretations;

—Amendments to resolution MEPC.2 (VI);

—Development of standards regarding rate of discharge for sewage;

—Development of provisions for gas-fuelled ships;

—Review of the Offshore Support Vessel Guidelines;

—Development of guidelines for uniform implementation of the 2004 Ballast Water Management Convention;

—Clarification of the definition of fuel oil in the revised MARPOL Annex I; and

—Guidelines for the application of the revised MARPOL Annex I requirements to Floating Production, Storage and Offloading vessels and Floating Storage Units.

Hard copies of documents associated with the 9th session of BLG will be available at this meeting. To request further copies of documents please write to the address provided below.

Members of the public may attend this meeting up to the seating capacity of the room. Interested persons may seek information by writing to Mr. Thomas J. Felleisen, Commandant (G-MSO-3), U.S. Coast Guard Headquarters, 2100 Second Street, SW., Room 1214, Washington, DC 20593-0001 or by calling (202) 267-0086.

Dated: March 4, 2005.
Clay Diamond,
Executive Secretary, Shipping Coordinating Committee, Department of State.

[FR Doc. 05-4969 Filed 3-11-05; 8:45 am]

BILLING CODE 4710-09-P